TENNESSEE VALLEY AUTHORITY

Environmental Impact Statement for Addition of Electric

Generation Baseload Capacity in Tennessee

AGENCY: Tennessee Valley Authority.

ACTION: Notice of intent.

SUMMARY: The Tennessee Valley Authority (TVA) is providing this notice pursuant to the Council on Environmental Quality's regulations (40 CFR 1500-1508), TVA's procedures implementing the National Environmental Policy Act, and section 106 of the National Historic Preservation Act and its implementing regulations (36 CFR part 800).

TVA will prepare an environmental impact statement (EIS) to assess the impact of a proposal made by Pickwick Power, LLC (PPLLC) to build and operate a coal-fired generating plant in Tennessee. The plant would supply intermediate or baseload capacity to the TVA electric generation system to meet growing power demands. PPLLC has proposed a site in Hardin County near Savannah, Tennessee, near the west shore of the Tennessee River at mile 203.

The following Federal actions are proposed at this time so that PPLLC can undertake the project:

• TVA's entering into a contract with PPLLC for buying electricity from the facility, interconnecting the facility with the TVA transmission system, and supplying the fuel and limestone for the facility.

• TVA's approval under section 26a of the TVA Act for PPLLC's construction of barge unloading facilities, water intakes, and discharge outfalls associated with the facility. Approvals may also have to be obtained from the U.S. Army Corps of Engineers under section 404 of the Clean Water Act and Section 10 of the Rivers and Harbors Act of 1899 for construction of the unloading facilities, water intakes, and discharge outfalls.

TVA will use the EIS process to obtain public comments on this proposal. This notice invites public comment concerning scope of the EIS, alternatives and environmental issues that should be addressed as a part of this EIS, and potential for impacts to historic properties such as archaeological resources and historic sites and structures.

DATES: Comments must be postmarked or e-mailed no later than March 21, 2002, to ensure their consideration in determining the scope of issues to be addressed and for identifying the significant issues relating to the proposed action.

ADDRESSES: Written comments and requests for further information should be sent to Peter K. Scheffler, Specialist, National Environmental Policy Act, Tennessee Valley Authority, mail stop WT 8C, 400 West Summit Hill Drive, Knoxville, Tennessee 37902-1499. Comments may be e-mailed to pkscheffler@tva.gov.

SUPPLEMENTARY INFORMATION:

Project Description

PPLLC has presented TVA with a proposal to supply baseload or intermediate power generated by a 100 Megawatt (MW) electric power plant. TVA would provide the fuel for the facility and pay a fee to convert the fuel to energy. PPLLC has proposed to build and operate the proposed facility at a site in Hardin County. The facility would begin generating power in 2004.

The proposed plant would consist of one coal-fired circulating fluidized bed combustion (CFBC) boiler, a steam turbine, and an electric generator. These components would be manufactured at existing facilities in China and transported to an existing shipyard in China for installation on two barges. The barges would also be manufactured, and the complete barge-mounted power generation module would be tested, in China before transport to the United States.

The barges would be loaded on a ship for dry transport to Mobile, Alabama, where they would then be placed into the water and towed up the Tennessee-Tombigbee Waterway to the proposed plant site. At the site, the barges would be removed from the Tennessee River by heavy lift, moved with the help of multi-wheeled transporters to a site probably several thousand feet west of the river, and placed on a foundation designed to fit the bottom of the barges. Final assembly would then take place, including connecting to the TVA power system.

The facility would also include other major balance-of-plant components such as barge unloading facilities, fuel handling and storage facilities, water intake and discharge structures, and electrical interconnection facilities. Barge unloading facilities would be constructed capable of unloading the facility barges (as noted above) and 1800-ton coal and limestone barges. Because the barge unloading facilities would require alteration of the shoreline and possibly dredging of the reservoir bottom, they would need approval from TVA under section 26a of the TVA Act and probably permits from the United States Army Corps of Engineers under section 10 of the Rivers and Harbors Act and section 404 of the Clean Water Act. Facilities such as conveyors would be needed to transport fuel and limestone to storage facilities and to the boiler. Areas would be identified on-site for coal and limestone storage. Facilities would also be built to store No.2 diesel that would be delivered to the boilers as fuel for standby and start-up. An ash disposal landfill of sufficient size to store ash generated from the process would be located adjacent to the facility. Section 26a approvals from TVA and sections 10 and 404 permits from the U.S. Army Corps of Engineers may also be required for process and potable water intakes and for wastewater discharge outfalls. To contain these various components, the proposed site could be as large as several hundred acres.

Background: TVA's Integrated Resource Plan and the Need for Power

This EIS will tier from TVA's Energy Vision 2020: An Integrated Resource Plan and Final Programmatic Environmental Impact Statement. Energy Vision 2020 was completed in December 1995 and a Record of Decision issued on February 28, 1996 (61 FR 7572). Energy Vision 2020 analyzed a full range of supply-side and demand-side options to meet customer energy needs for the period 1995 to 2020. These options were ranked using several criteria including environmental performance. Favorable options were formulated into strategies. A group of options drawn from several effective strategies was chosen as TVA's preferred alternative. The supply-side options selected to meet peaking and baseload capacity needs through the 2005 period included: (1) Addition of simple cycle or combined cycle combustion turbines to TVA's generation system, (2) purchase of call options for peaking or baseload capacity, and (3) market purchases of peaking or baseload capacity. The short-term action plan of Energy Vision 2020 identified a need for 3,000 MW of baseload and peaking additions through the year 2002. This is in addition to the baseload capacity additions of the successful completion of Watts Bar Nuclear Plant Unit 1 and the return to service of Browns Ferry Nuclear Plant Unit 3.

Each year TVA provides updated projections of supply and demand to the TVA sub-region of the Southeastern Electric Reliability Council (SERC) for the U.S. Department of Energy's annual report EIA-411. The 1999 projection (latest available) shows expected baseload demands growing at 2.2 percent from 1999 to 2004. The net capacity needed to meet the growth in demand is expected to increase by 3,400 megawatts by year 2003. (See line item 13 on Table—Item 2.1 Projected Capacity and Demand—Summer of the EIA-411 report.) The addition of the 100 MW Pickwick Power plant is needed by TVA to meet this projected regional power demand for baseload capacity.

Because Energy Vision 2020 identified and evaluated alternative supply-side and demand-side energy resources and technologies for meeting peak and baseload capacity needs, these alternatives would not be re-evaluated in this EIS. Market power purchases was one supply-side option identified in the EIS as necessary for meeting TVA's baseload and peaking capacity needs.

Proposed Issues To Be Addressed

TVA contemplates that the EIS would describe the existing environmental and socioeconomic resources affected by transportation of the barges to the site, construction of the balance-of-plant components on site, and operation of the power plant. TVA's evaluation of environmental impacts to these resources would include, but not necessarily be limited to, the potential impacts on air quality, water quality, aquatic and terrestrial ecology, endangered and threatened species, wetlands, floodplains, aesthetics and visual resources, noise, land use, historic and archaeological resources, and socioeconomic resources.

Alternatives

At this time, the alternatives TVA has identified for detailed evaluation include no action and the proposed plant at the Hardin County site. During the scoping process, TVA will investigate the feasibility of other alternatives, including technologies and sites, which meet PPLLC's purposes and needs and the basic requirements of TVA's electricity needs, are reasonably capable of being connected to TVA's transmission system, and otherwise fall within the reasonable range of alternatives to be evaluated in an EIS.

Scoping Process

Scoping, which is integral to the NEPA process, is a procedure that solicits public input to the EIS process to ensure that: (1) Issues are identified early and properly studied; (2) issues of little significance do not consume substantial time and effort; (3) the draft EIS is thorough and balanced; and (4) delays caused by an inadequate EIS are avoided. TVA's NEPA procedures require that the scoping process commence soon after a decision has been reached to prepare an EIS in order to provide an early and open process for determining the scope and for identifying the significant issues related to a proposed action. The scope of alternatives and issues to be addressed in the draft EIS will be determined, in part, from written comments submitted by mail or e-mail, and comments presented orally or in writing at public meetings. The preliminary identification in this notice of reasonable alternatives and environmental issues is not meant to be exhaustive or final.

The scoping process will include both interagency and public scoping. The public is invited to submit written comments or e-mail comments on the scope of this EIS no later than the date given under the DATES section of this notice.

TVA will conduct a public scoping meeting at the Pickwick Landing State Park Inn and Conference Center on March 5, 2002. At the meeting, TVA management and project staff will present overviews of the EIS process, PPLLC staff will present an overview of the proposed power plant project, and TVA will answer questions and solicit comments on the issues that the public would like addressed in the EIS. This meeting will be publicized through notices in local newspapers, TVA press releases, information on TVA's Web site at http://www.tva.gov/environment/reports, and meetings between TVA officials and local elected officials preceding the public meeting.

The federal agencies identified at this time for inclusion in the interagency scoping are the U.S. Environmental Protection Agency, U.S. Army Corps of Engineers (which has agreed to be a Cooperating Agency in preparation of the EIS), and the U.S. Fish and Wildlife Service. State agencies include the Tennessee Department of Economic and Community Development, Tennessee Department of Environment and Conservation, Tennessee Wildlife Resources Agency, and the Tennessee State Historic Preservation Officer. Regional and local agencies include the Southwest Tennessee Development District, Hardin County government, and the Hardin County Historian. Indian tribes include the Eastern Band of the Cherokee Indians, the United Keetoowah Band of the Cherokee Indians, the Cherokee Nation of Oklahoma, the Chickasaw Nation, the Muscogee (Creek) Nation of Oklahoma, the Poarch Band of Creek Indians, the Kialegee Tribal Town, the Alabama-Quassarte Tribal Town, the Thlopthlocco Tribal Town, and the Alabama-Coushatta Tribe. Other agencies, as appropriate and identified, will also be included.

After consideration of the scoping comments, TVA will establish alternatives and environmental issues to be addressed in the EIS. Following analysis of the environmental consequences of each alternative, TVA will prepare a draft EIS for public review and comment. Notice of availability of the draft EIS will be published by the Environmental Protection Agency in the Federal Register. Copies will be sent to public libraries, those requesting a copy, governmental agencies, and Indian Tribes, and a copy will be placed on TVA's Web site at http://www.tva.gov/environment/reports. TVA will solicit written comments on the draft EIS, and information about public meetings to comment on the draft EIS will be announced. TVA expects to release a draft EIS by October 2002 and a final EIS by January 2003.

Dated: February 11, 2002.
Kathryn J. Jackson,
Executive Vice President, River System Operations & Environment.

[FR Doc. 02-4052 Filed 2-19-02; 8:45 am]

BILLING CODE 8120-08-P